DEPARTMENT OF ENERGY

Federal Energy Regulatory Commission

[Project No. 619-158]

Pacific Gas and Electric Company and the City of Santa Clara; Notice of Environmental Site Review

On Monday, August 4, 2014, the Federal Energy Regulatory Commission (Commission) staff and the Pacific Gas and Electric Company and the City of Santa Clara (licensees) will conduct an environmental site review of the Bucks Creek Hydropower Project. The project is located on Bucks, Grizzly, and Milk Ranch Creeks in Plumas County, California.

The site review is open to the public and resource agencies and will occur from 9:00 a.m. to about 4:00 p.m. (Pacific Daylight Time). The following itinerary provides general guidance only and the specific itinerary including approximate times may change.

9:00 a.m. Meet at Bucks Lakeshore Resort [16001 Bucks Lake Rd., Quincy, CA 95971, (530) 283-2848]

• Safety briefing

• Project overview

9:30 a.m. Bucks Lake Recreation Features and Dam

• All recreation features in license

• Bucks storage dam

Noon Lunch (bring your own)

12:45 p.m. Lower Bucks Lake Recreation Features and Dam

• All recreation features in license, and view Lower Bucks dam from nearest recreation facility

• At Grizzly intake tower, show pictures of Three Lakes, the road to Three Lakes dam, and Milk Ranch conduit (not visiting these sites due to long distance, treacherous road conditions without specialized vehicle, and visitor safety)

2:00 p.m. Grizzly Forebay Features

• En route, stop at Grizzly powerhouse tunnel portal and view Grizzly penstock

• All recreation features in license, and view Grizzly forebay dam from nearest recreation facility

• Show pictures of Grizzly and Bucks powerhouses, Bucks penstock and other features (not visiting these sites due to specialized personal protective gear requirements and visitor safety)

4:00 p.m. Finish at Bucks Lakeshore Resort

To better support the safety of the group, participants will be requested to car pool in vehicles provided by the licensees. Participants are asked not to attempt to join the site review after it departs the initial meeting location. Participants must wear appropriate footwear (i.e., no sandals or open-toed shoes). Some brief walking over dirt trails may be needed.

To appropriately accommodate persons interested in attending the site tour, participants must contact Alan Mitchnick, FERC Team Leader, at (202) 502-6074 or alan.mitchnick@ferc.gov, no later than Monday, July 28, 2014.

Dated: July 2, 2014.
Kimberly D. Bose,
Secretary.

[FR Doc. 2014-16200 Filed 7-10-14; 8:45 am]

BILLING CODE 6717-01-P